ENVIRONMENTAL PROTECTION AGENCY

[EPA-HQ-OPP-2007-0501; FRL-8136-5]

Chloropicrin,Dazomet, 1,3-Dichloropropene, Metam potassium, Metam sodium, and Methyl bromide; Extension of Comment Periods

AGENCY: Environmental Protection Agency (EPA).

ACTION: Extension of comment periods.

SUMMARY: EPA issued five notices in the Federal Register of May 2, 2007, announcing the availability and seeking comments on EPA's revised human health risk assessments for the fumigants chloropicrin, dazomet, 1,3-dichloropropene, metam potassium, metam sodium, and methyl bromide. This notice announces EPA's decision to extend the comment period from July 2, 2007 to September 3, 2007, for the five actions.

DATES: Comments, identified by the applicable docket identification number (see the May 2, 2007 notices) must now be received on or before September 3, 2007.

ADDRESSES: Follow the detailed instructions as provided under ADDRESSES in the Federal Register documents of May 2, 2007.

FOR FURTHER INFORMATION CONTACT: The applicable contact persons listed in the Federal Register documents of May 2, 2007.

SUPPLEMENTARY INFORMATION:

I. General Information

A. Does this Action Apply to Me?

The Agency included in the notices of May 2, 2007, a list of those who may be potentially affected by this action. If you have questions regarding the applicability of this action to a particular entity, consult the person listed under FOR FURTHER INFORMATION CONTACT in the Federal Register documents of May 2, 2007.

B. How Can I Access Electronic Copies of this Document?

In addition to accessing an electronic copy of this Federal Register document through the electronic docket at http://www.regulations.gov, you may access this Federal Register document electronically through the EPA Internet under the “Federal Register” listings at http://www.epa.gov/fedrgstr.

II. What Action is EPA taking?

This document extends the public comment periods for the fumigants chloropicrin, dazomet, 1,3-dichloropropene, metam potassium, metam sodium, and methyl bromide established in the Federal Register issued on May 2, 2007 (72 FR 24290, FRL-8127-7), (72 FR 24292, FRL-8126-7), (72 FR 24294, FRL-8124-8), (72 FR 24295, FRL-8125-9), and (72 FR 24297, FRL-8125-7). In those documents, EPA announced the availability of the risk assessments and opened 60-day public comment periods. EPA is hereby extending the comment periods, which were set to end on July 2, 2007 to September 3, 2007.

III. What is the Agency's Authority for Taking this Action?

Section 4(g)(2) of the Federal Insecticide, Fungicide, and Rodenticide Act (FIFRA), as amended, directs that, after submission of all data concerning a pesticide active ingredient, the Administrator shall determine whether pesticides containing such active ingredient are eligible for reregistration. Further provisions are made to allow a public comment period. However, the Administrator may extend the comment period if additional time for comment is requested. In this case, Grimmway Farms; Certis U.S.A., L.L.C; Washington Minor Crops Association; Washington State Potato Commission; Amalgamated Sugar Company; Methyl Bromide Industry Task Force; the Idaho Potato Growers Association; and other individuals have requested additional time to develop comments. The Agency believes that an additional 60 days is warranted.

List of Subjects

Environmental protection, Fumigants, Pesticides and pests.

Dated: June 13, 2007.
Peter Caulkins,
Acting Director, Special Review and Reregistration Division, Office of Pesticide Programs.

[FR Doc. E7-11796 Filed 6-19-07; 8:45 am]

BILLING CODE 6560-50-S